DEPARTMENT OF HEALTH AND HUMAN SERVICES

Centers for Disease Control and Prevention

Advisory Board on Radiation and Worker Health: Notice of Charter Renewal

This gives notice under the Federal Advisory Committee Act (Pub. L. 92-463) of October 6, 1972, that the Advisory Board on Radiation and Worker Health, Centers for Disease Control and Prevention (CDC), Department of Health and Human Services, has been renewed for a 2-year period through August 3, 2009.

For information, contact Lewis Wade, Ph.D., Executive Secretary, National Institute for Occupational Safety and Health, CDC, 4976 Columbia Parkway, Cincinnati, Ohio 45226, Telephone (513) 533-6825, Fax (513) 533-6826.

The Director, Management Analysis and Services Office, has been delegated the authority to sign Federal Register notices pertaining to announcements of meetings and other committee management activities, for both the Centers for Disease Control and Prevention and the Agency for Toxic Substances and Disease Registry.

Dated: September 17, 2007.
Elaine L. Baker,
Acting Director, Management Analysis and Services Office, Centers for Disease Control and Prevention.

Page 2

[FR Doc. E7-18749 Filed 9-21-07; 8:45 am]

BILLING CODE 4163-18-P